FEDERAL RETIREMENT THRIFT INVESTMENT BOARD

Sunshine Act; Notice of Meeting

TIME AND DATE: 8:30 a.m. (Eastern Time) February 22, 2016 (In-Person).

PLACE: 10th Floor Board Meeting Room, 77 K Street NE., Washington, DC 20002.

STATUS: Parts will be open to the public and parts will be closed to the public.

MATTERS TO BE CONSIDERED:

Open to the Public

1. Approval of the Minutes of the January 25, 2016 Board Member Meeting

2. Monthly Reports

(a) Participant Activity Report

(b) Investment Performance Report

(c) Legislative Report

3. Quarterly Metrics

4. Office of the Chief Financial Officer Report

5. Update on Blended Retirement

Closed to the Public

6. Security

7. Personnel

CONTACT PERSON FOR MORE INFORMATION: Kimberly Weaver, Director, Office of External Affairs, (202) 942-1640.

Dated: February 12, 2016.
Megan Grumbine,
General Counsel, Federal Retirement Thrift Investment Board.

[FR Doc. 2016-03349 Filed 2-12-16; 4:15 pm]

BILLING CODE 6760-01-P